DEPARTMENT OF THE INTERIOR

Bureau of Land Management

Notice of Public Meeting: Resource Advisory Council to the Boise District, Bureau of Land Management, Department of the Interior

AGENCY: Bureau of Land Management, Department of the Interior.

ACTION: Notice of public meeting.

SUMMARY: In accordance with the Federal Land Policy and Management Act (FLPMA) and the Federal Advisory Committee Act of 1972 (FACA), the U.S. Department of the Interior, Bureau of Land Management (BLM) Boise District Resource Advisory Council (RAC), will meet as indicated below.

DATES: The meeting will be held October 26, 2004, beginning 10:30 a.m. at the Tribal Headquarters of Shoshone-Paiute Native American Indian Tribe, located on the Duck Valley Reservation, Owyhee, Nevada 83705. Public comment periods will be held after topics on the agenda. The meeting will adjourn at 3:30 p.m.

FOR FURTHER INFORMATION CONTACT: MJ Byrne, Public Affairs Officer and RAC Coordinator, Boise District, 3948 Development Ave., Boise, ID 83705, Telephone (208) 384-3393.

SUPPLEMENTARY INFORMATION: The 15-member Council advises the Secretary of the Interior, through the Bureau of Land Management, on a variety of planning and management issues associated with public land management in southwestern Idaho. At this meeting, the following actions will occur/topics will be discussed:

• Overview of Natural Resource Issues on the Duck Valley Reservation;

• Briefing to RAC on draft alternatives for the Bruneau and Snake River Birds of Prey National Conservation Area Resource Management Plans;

• Update on Juniper Mountain Fuels Project;

• Report on Off-Highway Vehicle Route Designation efforts in the Lower Snake River District;

• Update on BLM-Idaho Organizational Refinement—Introduction of new Owyhee and Bruneau Field Office Managers, and Associate District Manager

• Update: Implementation of LEPA Candidate Conservation Agreement;

• Discussion on RAC's response/comments to Idaho Sage Grouse Habitat Management Plan;

• Hot Topics;

• Subcommittee Reports

○ Off-Highway Vehicles (OHV) and Transportation Management, Resource Management Plans (RAC assistance requested with finalizing draft alternatives), Sage Grouse Habitat Management, and, River and Recreation Management, and;

• Three Field Office Managers and District Fire Manager provide updates on current issues and planned activities in their Field Offices and the District.

Agenda items may change due to changing circumstances. All meetings are open to the public. The public may present written comments to the Council. Each formal Council meeting will also have time allocated for hearing public comments. Depending on the number of persons wishing to comment and time available, the time for individual oral comments may be limited. Individuals who plan to attend and need special assistance, such as sign language interpretation, tour transportation or other reasonable accommodations, should contact the BLM as provided below. Expedited publication is requested to give the public adequate notice.

Dated: September 30, 2004.
James H. Johansen,
Acting District Manager.

[FR Doc. 04-22457 Filed 10-5-04; 8:45 am]

BILLING CODE 4310-GG-P